FEDERAL RETIREMENT THRIFT INVESTMENT BOARD

Sunshine Act Meeting; Correction

AGENCY: Federal Retirement Thrift Investment Board.

ACTION: Sunshine Act meeting; correction.

SUMMARY: The Federal Retirement Thrift Investment Board published a document in the Federal Register on January 23, 2013 concerning an upcoming meeting. The document contained an individual's incorrect title.

FOR FURTHER INFORMATION CONTACT: Kimberly Weaver, Director, Office of External Affairs, (202) 942-1640.

CORRECTION: In the Federal Register of January 23, 2013, in FR Doc. 78-4854, on page 4855, first column, six lines from the top of the page, correct the title “Acting Executive Director” to read: “Executive Director”.

Dated: January 24, 2013.
James B. Petrick,
Secretary, Federal Retirement Thrift Investment Board.

[FR Doc. 2013-01965 Filed 1-25-13; 11:15 am]

BILLING CODE 6760-01-P